DEPARTMENT OF COMMERCE

15 CFR Part 791

[Docket No. 250107-0003]

RIN 0605-AA51

Securing the Information and Communications Technology and Services Supply Chain; Corrections

AGENCY: U.S. Department of Commerce.

ACTION: Final rule; correction.

SUMMARY: The Department of Commerce is correcting a final rule that appeared in the Federal Register on December 6, 2024. This final rule revises the regulations on the Department of Commerce's review of transactions involving information and communications technology and services designed, developed, manufactured, or supplied by persons owned by, controlled by, or subject to the jurisdiction or direction of a foreign adversary that may pose undue or unacceptable risk to the United States or U.S. persons. That rule inadvertently omitted instructions to update certain regulatory language included in the rule. This document corrects the omissions in the December 6, 2024 rule.

DATES: Effective February 4, 2025.

FOR FURTHER INFORMATION CONTACT: Rachel O'Meara, U.S. Department of Commerce, Telephone: (202) 482-4124, email: ICTsupplychain@doc.gov.

SUPPLEMENTARY INFORMATION: On December 6, 2024, the Department of Commerce (Department) published in the Federal Register a final rule, “Securing the Information and Communications Technology and Services Supply Chain” (89 FR 96872). This final rule revised the regulations at 15 CFR part 791 on the Department's review of transactions involving information and communications technology and services (ICTS) designed, developed, manufactured, or supplied by persons owned by, controlled by, or subject to the jurisdiction or direction of a foreign adversary that may pose undue or unacceptable risk to the United States or U.S. persons. The revisions to 15 CFR part 791 inadvertently omitted instructions to update certain regulatory language included in the final rule. This document corrects the omissions inadvertently published in the Federal Register on December 6, 2024, specifically the omission of instructions to update certain paragraphs of §§ 791.3 and 791.100. While the related regulatory text was included in the final rule, the final rule unintentionally omitted the instructions to update introductory text for paragraph (a) in § 791.3 and to add paragraph (a)(9) to § 791.100. This document corrects the inadvertent omissions introduced by the December 6, 2024, final rule by instructing the Code of Federal Regulations to update introductory text for paragraph (a) in § 791.3 and to add paragraph (a)(9) to § 791.100.

Federal Register Correction

In FR Doc. 2024-28335, appearing on page 96872 in the Federal Register of Friday, December 6, 2024, the following corrections are made:

§ 791.3 [Corrected]

1. On page 96893, in the first column, in part 791, instruction 6 amending § 791.3 is corrected to read as follows:

6. Amend § 791.3 by revising paragraphs (a) introductory text, (a)(2) and (4), and (b) and removing paragraph (c).

The revisions read as follows:

§ 791.100 [Corrected]

2. On page 96893, in the third column, in part 791, instruction 8 amending § 791.100 is corrected to read as follows:

8. Amend § 791.100 by:

a. Revising paragraphs (a) introductory text and (a)(6) through (8);

b. Adding paragraph (a)(9); and

c. Revising paragraphs (c) introductory text, (d) introductory text, (d)(5), and (e).

The revisions and addition read as follows:

Dated: January 7, 2025.
Elizabeth L.D. Cannon,
Executive Director, Office of Information and Communications Technology and Services.

[FR Doc. 2025-00542 Filed 1-15-25; 8:45 am]

BILLING CODE 3510-20-P